DEPARTMENT OF ENERGY

Federal Energy Regulatory Commission

Combined Notice of Filings #1

Take notice that the Commission received the following electric corporate filings:

Docket Numbers: EC13-110-000.

Applicants: Cleco Power LLC, Cleco Evangeline LLC.

Description: Application of Cleco Power LLC and Cleco Evangeline LLC for Acquisition and Disposition of Jurisdictional Facilities.

Filed Date: 5/24/13.

Accession Number: 20130524-5136.

Comments Due: 5 p.m. ET 6/14/13.

Take notice that the Commission received the following electric rate filings:

Docket Numbers: ER10-1819-004; ER10-1820-006; ER10-1818-003; ER10-1817-004.

Applicants: Northern States Power Company, a Minnesota corporation, Northern States Power Company, a Wisconsin corporation, Southwestern Public Service Company, Public Service Company of Colorado.

Description: Northern States Power Company-MN and Northern States Power Company-WI, et al submit Supplement to January 25, 2013 Change in Status Report Compliance Filing.

Filed Date: 4/15/13.

Accession Number: 20130415-5206.

Comments Due: 5 p.m. ET 6/18/13.

Docket Numbers: ER13-469-002.

Applicants: Southwest Power Pool, Inc.

Description: 2501 Waverly Wind Farm, LLC GIA Compliance Filing to be effective 11/14/2012.

Filed Date: 5/28/13.

Accession Number: 20130528-5044.

Comments Due: 5 p.m. ET 6/18/13.

Docket Numbers: ER13-984-001.

Applicants: Midcontinent Independent System Operator, Inc.

Description: 2013-05-24 RSG Sign Convention Compliance to be effective 4/27/2013.

Filed Date: 5/24/13.

Accession Number: 20130524-5106.

Comments Due: 5 p.m. ET 6/14/13.

Docket Numbers: ER13-1421-001.

Applicants: Llano Estacado Wind, LLC.

Description: Llano Estacado Wind, LLC, Updated MBR Tariff to be effective 5/29/2013.

Filed Date: 5/28/13.

Accession Number: 20130528-5028.

Comments Due: 5 p.m. ET 6/18/13.

Docket Numbers: ER13-1248-001.

Applicants: Patua Project LLC.

Description: Supplement to Patua Project LLC MBR Tariff to be effective 6/1/2013.

Filed Date: 5/24/13.

Accession Number: 20130524-5122.

Comments Due: 5 p.m. ET 6/14/13.

Docket Numbers: ER13-1249-001.

Applicants: Myotis Power Marketing LLC.

Description: Supplement to Myotis Power Marketing LLC MBR Tariff to be effective 6/1/2013.

Filed Date: 5/24/13.

Accession Number: 20130524-5125.

Comments Due: 5 p.m. ET 6/14/13.

Docket Numbers: ER13-1555-000.

Applicants: New England Power Company.

Description: Interconnection Agreement Between NEP and Wheelabrator Millbury to be effective 7/24/2013.

Filed Date: 5/24/13.

Accession Number: 20130524-5117.

Comments Due: 5 p.m. ET 6/14/13.

Docket Numbers: ER13-1556-000.

Applicants: Entergy Services, Inc.

Description: Entergy Services, Inc., Service Agreements to be effective 12/19/2013.

Filed Date: 5/24/13.

Accession Number: 20130524-5127.

Comments Due: 5 p.m. ET 6/14/13.

Docket Numbers: ER13-1557-000.

Applicants: New England Power Company.

Description: Rate Schedule CRA-NEP-05—Cost Allocation Agreement with NSTAR Electric Co. to be effective 4/30/2013.

Filed Date: 5/24/13.

Accession Number: 20130524-5132.

Comments Due: 5 p.m. ET 6/14/13.

Docket Numbers: ER13-1558-000.

Applicants: CSOLAR IV South, LLC.

Description: Co-Tenancy and Shared Use Agreement to be effective 6/1/2013.

Filed Date: 5/28/13.

Accession Number: 20130528-5005.

Comments Due: 5 p.m. ET 6/18/13.

Take notice that the Commission received the following PURPA 210(m)(3) filings:

Docket Numbers: QM13-2-000.

Applicants: PPL Electric Utilities Corporation.

Description: Supplement to May 17, 2013 Application to Terminate Purchase Obligation of PPL Electric Utilities Corporation.

Filed Date: 5/24/13.

Accession Number: 20130524-5082.

Comments Due: 5 p.m. ET 6/21/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 29, 2013.
Nathaniel J. Davis, Sr.,
Deputy Secretary.

[FR Doc. 2013-13590 Filed 6-6-13; 8:45 am]

BILLING CODE 6717-01-P